DEPARTMENT OF ENERGY

Federal Energy Regulatory Commission

[Docket No. RM13-5-000]

Version 5 Critical Infrastructure Protection Reliability Standards; Notice of Technical Conference

Take notice that the Federal Energy Regulatory Commission (Commission) will hold a staff-led technical conference on Critical Infrastructure Protection Issues Identified in Order No. 791 on April 29, 2014, beginning at 9:00 a.m. and ending at approximately 5:00 p.m. (Eastern Time). The conference will be held at the Federal Energy Regulatory Commission, 888 First Street NE., Washington, DC 20426.

The technical conference shall facilitate a structured dialogue on operational and technical issues identified by the Commission in the Critical Infrastructure Protection (CIP) version 5 Standards Final Rule. Technical Conference panelists may be asked to address: (1) Whether additional definitions and/or security controls are needed to protect Bulk-Power System communications networks, including remote systems access; (2) the adequacy of the approved CIP version 5 Standards' protections for Bulk-Power System data being transmitted over data networks; and (3) functional differences between the respective methods utilized for identification, categorization, and specification of appropriate levels of protection for cyber assets using CIP version 5 Standards as compared with those employed within the National Institute of Standards and Technology Security Risk Management Framework. The technical conference will be led by Commission staff, with prepared remarks to be presented by invited panelists, which must be submitted to the Commission shortly in advance of the conference. A subsequent notice detailing the topics to be discussed and agenda will be issued in advance of the conference.

There is no fee for attendance. However, members of the public are encouraged to preregister online at: https://www.ferc.gov/whats-new/registration/04-29-14-form.asp.

Those wishing to participate in panel discussions should submit nominations no later than close of business on March 14 online at: https://www.ferc.gov/whats-new/registration/04-29-14-speaker-form.asp.

There will be no webcast of this event. However, it will be transcribed. Transcripts of the meeting/conference will be immediately available for a fee from Ace-Federal Reporters, Inc. (202-347-3700 or 1-800-336-6646).

FERC conferences are accessible under section 508 of the Rehabilitation Act of 1973. For accessibility accommodations please send an email to accessibility@ferc.gov or call toll free (866) 208-3372 (voice) or (202) 502-8659 (TTY), or send a fax to (202) 208-2106 with the requested accommodations.

For more information about the technical conference, please contact: Sarah McKinley, Office of External Affairs, 202-502-8368, sarah.mckinley@ferc.gov.

Dated: February 27, 2014.
Kimberly D. Bose,
Secretary.

[FR Doc. 2014-05125 Filed 3-7-14; 8:45 am]

BILLING CODE 6717-01-P